COMMISSION ON CIVIL RIGHTS

Agenda and Notice of Public Meeting of the Illinois Advisory Committee

AGENCY: U.S. Commission on Civil Rights.

ACTION: Notice.

SUMMARY: Notice is hereby given, pursuant to the provisions of the rules and regulations of the U.S. Commission on Civil Rights (Commission) and the Federal Advisory Committee Act that the Illinois Advisory Committee (Committee) will hold a meeting on Thursday, March 20, 2014, for the purpose of gathering information and hearing statements regarding corporate, nonprofit, and government initiatives on addressing food deserts in Chicago. The Committee will receive testimony from leaders of Chicago corporations, nonprofits and governments. The Committee issued a report in 2011 on Food Deserts in Chicago. The testimony presented at this meeting will address the initiatives that have begun since that report and how well these initiatives are addressing the problem.

Members of the public are invited and welcomed to make statements into the record at the meeting starting at 1:45 p.m. Member of the public are also entitled to submit written comments; the comments must be received in the regional office by April 20, 2014. Written comments may be mailed to the Midwestern Regional Office, U.S. Commission on Civil Rights, 55 W. Monroe St., Suite 410, Chicago, IL 60615. They may also be faxed to the Commission at (312) 353-8311, or emailed to Administrative Assistant, Carolyn Allen at callen@usccr.gov. Persons who desire additional information may contact the Midwestern Regional Office at (312) 353-8311.

Hearing-impaired persons who will attend the meeting and require the services of a sign language interpreter should contact the Midwestern Regional Office at least ten (10) working days before the scheduled date of the meeting.

Records generated from this meeting may be inspected and reproduced at the Midwestern Regional Office, as they become available, both before and after the meeting. Records of the meeting will be available via www.facadatabase.gov under the Commission on Civil Rights, Illinois Advisory Committee link. Persons interested in the work of this Committee are directed to the Commission's Web site, http://www.usccr.gov, or may contact the Midwestern Regional Office at the above email or street address.

Agenda

Welcome and Introductions

11 a.m. to 11:10 a.m. Barbara Abrajano, Chairman, Illinois Advisory Committee.

Business Meeting

11:10 a.m. to 12 p.m. Illinois Advisory Committee.

Panel Discussion

12 p.m. to 1:45 p.m.

Moderator: Malik Nevels, Health Disparities Subcommittee Chair, Illinois Advisory Committee.

Panelists: Dr. Bechara Choucair, Commissioner, Chicago Department of Public Health; Sonya Harper, Growing Home; Trinita Logue, IFF; Rafael Malpica, Walgreens; Sheelah Muhammad, IMAN; Connie Spreen, Experimental Station; Terri Zhu, Louis' Groceries.

Open Session

1:45 p.m. to 2 p.m.

Adjournment

2 p.m.

DATES: The meeting will be held on Thursday, March 20, 2014, at 11 a.m. for a business meeting with panel discussion beginning at 12 p.m.

ADDRESSES: The meeting will be held at Kennedy-King College, Mini Great Hall, 740 W. 63rd St., Chicago, IL 60621.

Dated: February 28, 2014.
David Mussatt,
Acting Chief, Regional Programs Coordination Unit.

[FR Doc. 2014-04871 Filed 3-5-14; 8:45 am]

BILLING CODE 6335-01-P